DEPARTMENT OF COMMERCE

National Oceanic and Atmospheric Administration

RIN 0648-XC819

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Whiting Advisory Panel on September 9, 2013 to consider actions affecting New England fisheries in the exclusive economic zone (EEZ). Recommendations from this group will be brought to the full Council for formal consideration and action, if appropriate.

DATES: This meeting will be held on Monday, September 9, 2013 at 10 a.m.

ADDRESSES:

Meeting address: The meeting will be held at the Hilton Garden Inn, One Thurber Street, Warwick, RI 02886; telephone: (401) 734-9600; fax: (401) 734-9700.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The advisors will develop recommendations for Georges Bank yellowtail flounder accountability measures to be considered as alternatives in Multispecies Framework Adjustment 51. Since combined discards are estimated for small mesh gears, rather than fisheries, industry advisors for the squid fishery may have interest in this meeting. These recommendations will be presented to the Groundfish Oversight Committee on September 17, 2013 in Portsmouth, NH. Framework Adjustment 51 will be approved by the Council at the November 2013 Council meeting and implemented on or before May 1, 2014. Other small mesh fishery issues may also be discussed as time permits, such as adjustments to management measures in a 2015-17 specifications package to be prepared in 2014.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 16, 2013.
William D. Chappell,
Acting Deputy Director, Office of Sustainable Fisheries, National Marine Fisheries Service.

[FR Doc. 2013-20390 Filed 8-20-13; 8:45 am]

BILLING CODE 3510-22-P